DEPARTMENT OF DEFENSE

Department of the Navy

[Docket ID USN-2023-HQ-0007]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Department of the Navy Information Management Control Officer, 2000 Navy Pentagon, Rm. 4E563, Washington, DC 20350, ATTN: Ms. Sonya Martin, or call 703-614-7585.

SUPPLEMENTARY INFORMATION: Title; Associated Form; and OMB Number: NAVSUP Enterprise Web Portal; OMB Control Number 0703-EPWP.

Needs and Uses: The NAVSUP Enterprise Web Portal is the combined Web Presence for the Naval Supply Systems Command (NAVSUP). NAVSUP Enterprise Web is used primarily by Military Service Members and Department of Defense (DoD) Civilian Employees. In limited circumstances, information is collected from members of the public for vendors based in the continental United States (CONUS) doing business with the Navy and Foreign National Employees at locations outside of the continental United States (OCONUS). Per DoD policy contained in DoD Instruction 8510.01 “Risk Management Framework for DoD Systems” and Navy policy from Department of the Navy (DON) Chief Information Officer (CIO) Memorandum of 20 May 2014 “Implementation of the Risk Management Framework for DoD Information Technology,” NAVSUP is required to implement standard cybersecurity requirements and cyberspace operational risk management functions based on the National Institute of Standard (NIST) security controls. Access Control and Identification and Authorization controls require NAVSUP to collect information needed to identify users of NAVSUP Enterprise Web applications and ensure appropriate roles for use. The WorkFlow Pro Vendor application allows DON vendors, under a contract agreement, to submit their post award modification requests to NAVSUP Civilian or Military contracting officers. Foreign National employees outside of the Continental United States (OCONUS) access the portal via their DoD standard CAC or by a User Token card. They must first register their CAC or User Token Card via an online form linked to a master repository maintained by NAVSUP and provide their name, work email address and phone number, Country of Citizenship, and organizational affiliation.

Affected Public: Individuals or households; Businesses or other for-profit.

Annual Burden Hours: 25.

Number of Respondents: 300.

Responses per Respondent: 1.

Annual Responses: 300.

Average Burden per Response: 5 minutes.

Frequency: As Required.

Dated: February 7, 2023.
Aaron T. Siegel,
Alternate OSD Federal Register Liaison Officer, Department of Defense.

[FR Doc. 2023-02898 Filed 2-9-23; 8:45 am]

BILLING CODE 5001-06-P